DEPARTMENT OF HOMELAND SECURITY

Federal Emergency Management Agency

[Docket ID FEMA-2024-0002; Internal Agency Docket No. FEMA-B-2488]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Alabama:
Jefferson | City of Birmingham (23-04-3251P). | The Honorable Randall Woodfin, Mayor, City of Birmingham, 710 North 20th Street, 3rd Floor, Birmingham, AL 35203. | Department of Planning, Engineering, and Permits, 710 20th Street North, Room 210, Birmingham, AL 35203. | https://msc.fema.gov/portal/advanceSearch. | Feb. 21, 2025 | 010116
Jefferson | City of Birmingham (24-04-3190P). | The Honorable Randall Woodfin, Mayor, City of Birmingham, 710 North 20th Street, 3rd Floor, Birmingham, AL 35203. | City Hall, 710 North 20th Street, Room 500, Birmingham, AL 35203. | https://msc.fema.gov/portal/advanceSearch. | Mar. 13, 2025 | 010116
Jefferson | City of Fultondale (23-04-3251P). | The Honorable Larry Holcomb, Mayor, City of Fultondale, 1210 Walker Chapel Road, Fultondale, AL 35068. | Business License, Permit, and Inspections Department, 1015 Old Walker Chapel Road, Fultondale, AL 35068. | https://msc.fema.gov/portal/advanceSearch. | Feb. 21, 2025 | 010121
Jefferson | City of Mountain Brook (24-04-3190P). | The Honorable Stewart Welch, III, Mayor, City of Mountain Brook, P.O. Box 130009, Mountain Brook, AL, 35213. | City Hall, 56 Church Street, Mountain Brook, AL, 35213. | https://msc.fema.gov/portal/advanceSearch. | Mar. 13, 2025 | 010128
Jefferson | City of Tarrant (23-04-3251P). | The Honorable Wayman Newton, Mayor, City of Tarrant, 1604 Pinson Valley Parkway, Tarrant, AL 35217. | City Hall, 1604 Pinson Valley Parkway, Tarrant, AL 35217. | https://msc.fema.gov/portal/advanceSearch. | Feb. 21, 2025 | 010131
Jefferson | Unincorporated Areas of Jefferson County (23-04-3251P). | The Honorable Jimmie Stephens, President, Jefferson County Commission, 716 Richard Arrington Jr. Boulevard North, Suite 210, Birmingham, AL 35203. | Jefferson County Department of Development Services, 716 Richard Arrington Jr. Boulevard North, Suite B200, Birmingham, AL 35203. | https://msc.fema.gov/portal/advanceSearch. | Feb. 21, 2025 | 010217
Arizona:
Maricopa | City of Phoenix (23-09-0361P). | The Honorable Kate Gallego,Mayor, City of Phoenix, 200 West Washington Street, Phoenix, AZ 85003. | City Hall, 200 West Washington Street, Phoenix, AZ 85003. | https://msc.fema.gov/portal/advanceSearch. | Mar. 7, 2025 | 040051
Maricopa | Town of Paradise Valley (23-09-0361P). | The Honorable Jerry Bien-Willner, Mayor, Town of Paradise Valley, 6401 East Lincoln Drive, Paradise Valley, AZ 85253. | Town Hall, 6401 East Lincoln Drive, Paradise Valley, AZ 85253. | https://msc.fema.gov/portal/advanceSearch. | Mar. 7, 2025 | 040049
Pinal | City of Apache Junction (24-09-0270P). | The Honorable Chip Wilson, Mayor, City of Apache Junction, 300 East Superstition Boulevard, Apache Junction, AZ 85119. | City Hall, 300 East Superstition Boulevard, Apache Junction, AZ 85119. | https://msc.fema.gov/portal/advanceSearch. | Mar. 6, 2025 | 040120
Arkansas:
Washington | City of Springdale (24-06-0636P). | The Honorable Doug Sprouse, Mayor, City of Springdale, 201 Spring Street, Springdale, AR 72764. | City Hall, 201 Spring Street, Springdale, AR 72764. | https://msc.fema.gov/portal/advanceSearch. | Mar. 24, 2025 | 050219
California:
San Joaquin | City of Lathrop (24-09-0243P). | The Honorable Sonny Dhaliwal, Mayor, City of Lathrop, 390 Town Center Drive, Lathrop, CA 95330. | City Hall, 390 Towne Center Drive, Lathrop, CA 95330. | https://msc.fema.gov/portal/advanceSearch. | Mar. 13, 2025 | 060738
Ventura | City of Santa Paula (24-09-0113P). | Dan Singer, City Manager, City of Santa Paula, 970 Ventura Street, Santa Paula, CA 93060. | Public Works Department, 866 East Main Street, Santa Paula, CA 93060. | https://msc.fema.gov/portal/advanceSearch. | Mar. 6, 2025 | 060420
Ventura | Unincorporated Areas of Ventura County (24-09-0113P). | Kelly Long, Chair, Ventura County Board of Supervisors, 1203 Flynn Road, Suite 220, Camarillo, CA 93012. | Ventura County Government, Center Hall of Administration, 800 South Victoria Avenue, Ventura, CA 93009. | https://msc.fema.gov/portal/advanceSearch. | Mar. 6, 2025 | 060413
Colorado:
Douglas | Town of Castle Rock (24-08-0008P). | The Honorable Jason Gray, Mayor, Town of Castle Rock, 100 North Wilcox Street, Castle Rock, CO 80104. | Water Administration Building, 175 Kellogg Court, Castle Rock, CO 80104. | https://msc.fema.gov/portal/advanceSearch. | Mar. 21, 2025 | 080050
Douglas | Unincorporated Areas of Douglas County (24-08-0008P). | George Teal, Chair, Douglas County Board of County Commissioners, 100 3rd Street, Castle Rock, CO 80104. | Douglas County Public Works, 100 3rd Street, Castle Rock, CO 80104. | https://msc.fema.gov/portal/advanceSearch. | Mar. 21, 2025 | 080049
Jefferson | Unincorporated Areas of Jefferson County (24-08-0337P). | Lesley Dahlkemper, Chair, Jefferson County, Board of Commissioners, 100 Jefferson County Parkway, Suite 5550, Golden, CO 80419. | Jefferson County, Planning and Zoning Division, 100 Jefferson County Parkway, Suite 3550, Golden, CO 80419. | https://msc.fema.gov/portal/advanceSearch. | Mar. 28, 2025 | 080087
Delaware:
New Castle | Unincorporated areas of New Castle County (24-03-0197P). | The Honorable Matthew Meyer, New Castle County Executive, 87 Reads Way, New Castle, DE 19720. | New Castle County Government Center, 87 Reads Way, New Castle, DE 19720. | https://msc.fema.gov/portal/advanceSearch. | Mar. 20, 2025 | 105085
Florida:
Charlotte | Unincorporated areas of Charlotte County (24-04-2434P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Mar. 24, 2025 | 120061
Clay | Unincorporated areas of Clay County (24-04-3312P). | Jim Renninger, Chair, Clay County Board of Commissioners, P.O. Box 1366, Green Cove Springs, FL 32043. | Clay County Administration Building, 477 Houston Street, 3rd Floor, Green Cove Springs, FL 32043. | https://msc.fema.gov/portal/advanceSearch. | Apr. 4, 2025 | 120064
Hillsborough | Unincorporated areas of Hillsborough County (25-04-0554P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Mar. 17, 2025 | 120064
Orange | City of Orlando (24-04-0779P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Mar. 24, 2025 | 120186
Orange | City of Orlando (24-04-6931P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Apr. 7, 2025 | 120186
Orange | Unincorporated areas of Orange County (24-04-0779P). | The Honorable Jerry L. Demings, Mayor, Orange County, 201 South Rosalind Avenue 5th Floor, Orlando, FL 32801. | Orange County Public Works Department, Stormwater Management Division, 4200 South John Young Parkway, Orlando, FL 32839. | https://msc.fema.gov/portal/advanceSearch. | Mar. 24, 2025 | 120179
Palm Beach | Unincorporated areas of Palm Beach County (24-04-4466P). | Verdenia C. Baker, Administrator, Palm Beach County, 301 North Olive Avenue, Suite 1101, West Palm Beach, FL 33411. | Palm Beach County Vista Center, Building Division, 2300 North Jog Road, Vista Center, 1st Floor, 1E-17, West Palm Beach, FL 33401. | https://msc.fema.gov/portal/advanceSearch. | Apr. 3, 2025 | 120192
Polk | City of Lakeland (24-04-3478P). | The Honorable William “Bill” Mutz, Mayor, City of Lakeland, 228 South Massachusetts Avenue, Lakeland, FL 33801. | City Hall, 228 South Massachusetts Avenue, Lakeland, FL 33801. | https://msc.fema.gov/portal/advanceSearch. | Mar. 24, 2025 | 120267
Polk | Unincorporated areas of Polk County (24-04-3478P). | Bill Beasley, Polk County Manager, 330 West Church Street, Bartow, FL 33830. | Polk County Land Development Division, 330 West Church Street, Bartow, FL 33830. | https://msc.fema.gov/portal/advanceSearch. | Mar. 24, 2025 | 120261
Sarasota | City of Venice (24-04-3479P). | The Honorable Nick Pachota, Mayor, City of Venice, 401 West Venice Avenue, Venice, FL 34285. | Engineering Department, 401 West Venice Avenue, Venice, FL 34285. | https://msc.fema.gov/portal/advanceSearch. | Mar. 31, 2025 | 125154
Sarasota | Unincorporated areas of Sarasota County (24-04-3479P). | Michael A. Moran, Chair, Sarasota County Board of Commissioners, 1660 Ringling Boulevard, Sarasota, FL 34236. | Sarasota County Planning and Development Services Department, 1001 Sarasota Center Boulevard, Sarasota, FL 34240. | https://msc.fema.gov/portal/advanceSearch. | Mar. 31, 2025 | 125144
North Carolina:
Cumberland | Unincorporated Areas of Cumberland County (24-04-0875P). | Kirk DeViere, Chair, Cumberland County Board of Commissioners, P.O. Box 1829, Fayetteville, NC 28302. | Cumberland County Planning & Inspections Department, 130 Gillespie Street, Fayetteville, NC 28301. | https://msc.fema.gov/portal/advanceSearch. | Mar. 12, 2025 | 370076
Guilford | City of Greensboro (23-04-6190P). | The Honorable Nancy Vaughan, Mayor, City of Greensboro, P.O. Box 3136, Greensboro, NC 27402. | Stormwater Planning Division, 2602 South Elm, Eugene Street, Greensboro, NC 27402. | https://msc.fema.gov/portal/advanceSearch. | Mar. 21, 2025 | 375351
Harnett | Unincorporated Areas of Harnett County (24-04-0875P). | Matt Nicol, Chair, Harnett County Board of Commissioners, P.O. Box 759, Lillington, NC 27546. | Harnett County Development Services, 420 McKinney Pkwy., Lillington, NC 27546. | https://msc.fema.gov/portal/advanceSearch. | Mar. 12, 2025 | 370328
Ohio:
Franklin | City of Columbus (24-05-2037P). | The Honorable Andrew J. Ginther, Mayor, City of Columbus, 90 West Broad Street, Columbus, OH 43215. | City Hall, 1250 Fairwood Avenue, Columbus, OH 43206. | https://msc.fema.gov/portal/advanceSearch. | Mar. 31, 2025 | 390170
Franklin | City of Reynoldsburg (24-05-2037P). | The Honorable Joe Begeny, Mayor, City of Reynoldsburg, 7232 East Main Street, Reynoldsburg, OH 43068. | City Hall, 7232 East Main Street, Reynoldsburg, OH 43068. | https://msc.fema.gov/portal/advanceSearch. | Mar. 31, 2025 | 390177
South Dakota:
Pennington | City of Rapid City (24-08-0254P). | The Honorable Jason Salamun, Mayor, City of Rapid City, 300 6th Street, Rapid City, SD 57701. | Engineering Department, 300 6th Street, Rapid City, SD 57701. | https://msc.fema.gov/portal/advanceSearch. | Apr. 2, 2025 | 465420
Tennessee:
Sevier | City of Sevierville (24-04-4910P). | The Honorable Robert W. Fox, Mayor, City of Sevierville, 120 Gary Wade Boulevard, Sevierville, TN 37862. | Division of Code Enforcement, 120 Gary Wade Boulevard, Sevierville, TN 37862. | https://msc.fema.gov/portal/advanceSearch. | Mar. 17, 2025 | 475444
Rutherford | City of Murfreesboro (24-04-1833P). | The Honorable Shane McFarland, Mayor, City of Murfreesboro, 111 West Vine Street, Murfreesboro, TN 37130. | City Hall, 111 West Vine Street, Murfreesboro, TN 37130. | https://msc.fema.gov/portal/advanceSearch. | Mar. 12, 2025 | 470168
Rutherford | Unincorporated Areas of Rutherford County (24-04-1833P). | The Honorable Joe Carr, Mayor, Rutherford County, 1 Public Square, Room 101, Murfreesboro, TN 37130. | Rutherford County Planning and Engineering Department, 1 South Public Square #200, Murfreesboro, TN 37130. | https://msc.fema.gov/portal/advanceSearch. | Mar. 12, 2025 | 470165
Texas:
Bexar | City of San Antonio (24-06-0419P). | The Honorable Ron Nirenberg, Mayor, City of San Antonio, P.O. Box 839966, San Antonio, TX 78283. | Department of Public Works, Storm Water Division, 1901 South Alamo Street, 2nd Floor, San Antonio, TX 78204. | https://msc.fema.gov/portal/advanceSearch. | Mar. 10, 2025 | 480045
Bexar | Unincorporated areas of Bexar County (24-06-2212P). | The Honorable Peter Sakai, Bexar County Judge, 101 West Nueva Street, 10th Floor, San Antonio, TX 78205. | Bexar County Public Works Department, 1948 Probandt Street, San Antonio, TX 78214. | https://msc.fema.gov/portal/advanceSearch. | Feb. 24, 2025 | 480035
Comal | City of New Braunfels (24-06-0435P). | Robert Camareno, Manager, City of New Braunfels, 550 Landa Street, New Braunfels, TX 78130. | City Hall, 550 Landa Street, New Braunfels, TX 78130. | https://msc.fema.gov/portal/advanceSearch. | Mar. 12, 2025 | 485493
Grayson | Unincorporated areas of Grayson County (24-06-0789P). | The Honorable Bruce Dawsey, Grayson County Judge, 100 West Houston Street, Sherman, TX 75090. | Grayson County Courthouse, 100 West Houston Street, Sherman, TX 75090. | https://msc.fema.gov/portal/advanceSearch. | Mar. 24, 2025 | 480829
Kendall | Unincorporated areas of Kendall County (24-06-0930P). | The Honorable Shane Stolarczyk, Kendall County Judge, 201 East San Antonio Avenue, Boerne, TX 78006. | Kendall County Courthouse, 201 East San Antonio Avenue, Suite 101, Boerne, TX 78006. | https://msc.fema.gov/portal/advanceSearch. | Mar. 24, 2025 | 480417
Midland | City of Midland (24-06-2101P). | The Honorable Lori Blong, Mayor, City of Midland, 300 North Loraine Street, Midland, TX 79701. | Engineering Department, 300 North Loraine Street, 5th Floor, Midland, TX 79701. | https://msc.fema.gov/portal/advanceSearch. | Apr. 2, 2025 | 480477
Midland | Unincorporated areas of Midland County (23-06-2576P). | The Honorable Terry Johnson, Midland County Judge, 500 North Loraine Street, Suite 1100, Midland, TX 79701. | Midland County Public Works Department, 500 North Loraine Street, Suite 1100, Midland, TX 79701. | https://msc.fema.gov/portal/advanceSearch. | Mar. 31, 2025 | 481239
Midland | Unincorporated areas of Midland County (24-06-2101P). | The Honorable Terry Johnson, Midland County Judge, 500 North Loraine Street, Suite 1100, Midland, TX 79701. | Midland County Public Works Department, 500 North Loraine Street, Suite 1100, Midland, TX 79701. | https://msc.fema.gov/portal/advanceSearch. | Apr. 2, 2025 | 481239
Tarrant | City of Benbrook (24-06-0786P). | James Hinderaker, Manager, City of Benbrook, 911 Winscott Road, Benbrook, TX 76126. | City Hall, 911 Winscott Road, Benbrook, TX 76126. | https://msc.fema.gov/portal/advanceSearch. | Apr. 3, 2025 | 480586
Tarrant | City of Fort Worth (24-06-0786P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Apr. 3, 2025 | 480596
Travis | City of Manor (23-06-2497P). | The Honorable Christopher Harvey Mayor, City of Manor, P.O. Box 387, Manor, TX 78653. | City Hall, 105 East Eggleston Street, Manor, TX 78653. | https://msc.fema.gov/portal/advanceSearch. | Apr. 7, 2025 | 481027
Travis | Unincorporated areas of Travis County (23-06-2497P). | The Honorable Andy Brown, Travis County Judge, P.O. Box 1748, Austin, TX 78767. | Travis County Floodplain Management, 700 Lavaca Street, 5th Floor, Austin, TX 78701. | https://msc.fema.gov/portal/advanceSearch. | Apr. 7, 2025 | 481026
Washington:
King | Town of Skykomish (22-10-0931P). | The Honorable Henry Sladek, Mayor, Town of Skykomish, P.O. Box 308, Skykomish, WA 98288. | City Hall, 119 4th Street North, Skykomish, WA 98288. | https://msc.fema.gov/portal/advanceSearch. | Mar. 31, 2025 | 530236
King | Unincorporated Areas of King County (22-10-0931P). | Dow Constantine, King County Executive, 401 5th Avenue, Suite 800, Seattle, WA 98104. | King County Executive Office, 401 5th Avenue, Suite 800, Seattle, WA 98104. | https://msc.fema.gov/portal/advanceSearch. | Mar. 31, 2025 | 530071
Wyoming:
Teton | Unincorporated Areas of Teton County (23-08-0662P). | Luther Propst, Chair, Teton County Board of Commissioners, P.O. Box 3594, Jackson, WY 83001. | Teton County Public Works Department, 320 South King Street, Jackson, WY 83002. | https://msc.fema.gov/portal/advanceSearch. | Mar. 20, 2025 | 560094

[FR Doc. 2025-00242 Filed 1-7-25; 8:45 am]

BILLING CODE 9110-12-P